DEPARTMENT OF TRANSPORTATION

Federal Highway Administration

[Docket No. FHWA 2022-0015]

Agency Information Collection Activities: Notice of Request for New Information Collection

AGENCY: Federal Highway Administration (FHWA), DOT.

ACTION: Notice and request for comments.

SUMMARY: The FHWA invites public comments about our intention to request the Office of Management and Budget's (OMB) approval to submit one information collection, which is summarized below under SUPPLEMENTARY INFORMATION. We are required to publish this notice in the Federal Register by the Paperwork Reduction Act of 1995.

DATES: Please submit comments by August 1, 2022.

ADDRESSES: You may submit comments identified by Docket ID FHWA 2022-0015 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Raj Ailaney, (202) 366-6749, Department of Transportation, Federal Highway Administration, Office of Bridges and Structures, 1200 New Jersey Avenue SE, Washington, DC 20590. Office hours are from 7 a.m. to 4:30 p.m., Monday through Friday, except Federal holidays.

SUPPLEMENTARY INFORMATION:

Title: Peer Exchange on Corrosion Prevention and Mitigation for Highway Bridges

OMB Control Number: (if applicable).

Summary: The Federal Highway Administration (FHWA) through their stewardship and oversight role provides support to State departments of transportation and other stakeholders in implementing the Federal-aid Highway Program (FAHP). In addition to overseeing the FAHP, FHWA supports State DOTs and other stakeholders in the development and construction of highway projects, including providing technical assistance in the implementation of preservation activities to maintain and improve the condition of their bridges. The FHWA also conducts research to develop tools, methods, and procedures to advance the practice in bridge preservation.

In September 2021, Government Accountability Office (GAO) in their report Highway Bridges: Federal Highway Administration Could Better Assist States with Information on Corrosion Practices, GA0-21-104249 made a recommendation to FHWA to include activities in ongoing bridge preservation efforts, such as peer exchanges and case studies that focus on addressing the challenges states face with determining the circumstances under which specific corrosion practices and materials are most effective. To implement GAO's recommendation from the report, FHWA plans to conduct two regional peer exchanges. First peer exchange will include 9 States in the mid-west and north-east States which have environments with arid conditions or that experience frequent freeze/thaw cycles and use de-icing chemicals on their highway bridges, and second will include 9 States in the south-east and west States which have environments that experience freeze/thaw cycles and/or have highway bridges that are exposed to saltwater environment. These peer exchanges will focus on States' practices and materials used that mitigate bridge corrosion. Based on these shared experiences and lessons learned, FHWA will publish case studies and/or communicate the findings to States to improve their bridge preservation programs.

Respondents: State Departments of Transportation Agencies responsible for designing and maintaining highway bridges.

Estimated Average Burden per Response: The estimated average reporting burden per response is 16 hours for each State.

Estimated Total Annual Burden: The estimated total burden for 18 State respondents is 288 hours.

Public Comments Invited

You are asked to comment on any aspect of these information collections, including: (1) Whether the proposed collections are necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of these information collections.

Authority: The Paperwork Reduction Act of 1995; 44 U.S.C. Ch. 35, as amended; and 49 CFR 1.48.

Issued On: May 27, 2022.
Michael Howell,
Information Collection Officer.

[FR Doc. 2022-11833 Filed 6-1-22; 8:45 am]

BILLING CODE 4910-22-P